DEPARTMENT OF DEFENSE

Office of the Secretary

[Transmittal No. 24-89]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-89, Policy Justification, and Sensitivity of Technology.

Dated: November 18, 2025.
Stephanie J. Bost,
Alternate OSD Federal Register Liaison Officer, Department of Defense.

BILLING CODE 6001-FR-P

BILLING CODE 6001-FR-C

Transmittal No. 24-89

Notice of Proposed Issuance of Letter of Offer Pursuant to Section 36(b)(1) of the Arms Export Control Act, as amended

(i) Prospective Purchaser: Government of Sweden

(ii) Total Estimated Value:

Major Defense Equipment* | $27.5 million
Other | $ 4.0 million
TOTAL | $31.5 million

(iii) Description and Quantity or Quantities of Articles or Services under Consideration for Purchase: Foreign Military Sales (FMS) case SW-P-LBK was implemented below congressional notification threshold at $13.7 million ($10.9 million in Major Defense Equipment (MDE)) and included forty-five (45) AN/USQ-190 Multifunctional Information Distribution System Joint Tactical Radio Systems (MIDS JTRS). The Government of Sweden has requested the case be amended to include an additional seventy-five (75) AN/USQ-190 MIDS JTRS. This amendment will cause the case to exceed the congressional notification threshold, and thus notification of the entire program is required. The above notification requirements are combined as follows:

Major Defense Equipment (MDE):

One hundred twenty (120) AN/USQ-190 MIDS JTRS

Non-Major Defense Equipment:

The following non-MDE items will also be included: communications equipment; support equipment; engineering and technical support and assistance; non-warranty repair and return; training; and other related elements of logistics and program support.

(iv) Military Department: Navy (SW-P-LBK)

(v) Prior Related Cases, if any: None

(vi) Sales Commission, Fee, etc., Paid, Offered, or Agreed to be Paid: None known at this time.

(vii) Sensitivity of Technology Contained in the Defense Article or Defense Services Proposed to be Sold: See Attached Annex

(viii) Date Report Delivered to Congress: September 20, 2024

*as defined in Section 47(6) of the Arms Export Control Act.

POLICY JUSTIFICATION

Sweden—Multifunctional Information Distribution System Joint Tactical Radio Systems

The Government of Sweden has requested to buy one hundred twenty (120) AN/USQ-190 Multifunctional Information Distribution System Joint Tactical Radio Systems (MIDS JTRS). The following non-Major Defense Equipment (MDE) items will also be included: communications equipment; support equipment; engineering and technical support and assistance; non-warranty repair and return; training; and other related elements of logistics and program support. The estimated total cost is $31.5 million.

This proposed sale will support the foreign policy goals and national security objectives of the United States (U.S.) by improving the security of a NATO Ally that is a force for political stability and economic progress in Europe.

The proposed sale will improve Sweden's capability to meet current and future threats by modernizing its existing Link 16 capability to interoperate with U.S. forces and to exchange secure, jam-resistant tactical data via Link 16. Sweden will use the enhanced capability as a deterrent to regional threats and strengthen its homeland defense. Sweden will have no difficulty absorbing this equipment into its armed forces.

The proposed sale of this equipment and support will not alter the basic military balance in the region.

The principal contractor is Data Link Solutions, located in Cedar Rapids, IA. There are no known offset agreements proposed in connection with this potential sale.

Implementation of this proposed sale will not require the assignment of any additional U.S. Government or contractor representatives to Sweden; however, U.S. Government Engineering and Technical Services may be required on an interim basis for training and technical assistance.

There will be no adverse impact on U.S. defense readiness as a result of this proposed sale.

Transmittal No. 24-89

Notice of Proposed Issuance of Letter of Offer Pursuant to Section 36(b)(1) Of The Arms Export Control Act

Annex

Item No. vii

(vii) Sensitivity of Technology:

1. The AN/USQ-190 Multifunctional Information Distribution System Joint Tactical Radio Systems (MIDS JTRS) builds on MIDS-Low Volume Terminal (LVT)'s capabilities with the addition of Concurrent Multi-Netting (CMN) and Concurrent Contention Receive (CCR) functions. CMN and CCR dramatically expand the number of platforms and network-enabled systems that can be reliably included in a Link 16 network. These enhancements allow a single MIDS JTRS terminal to simultaneously receive messages on up to four nets (compared with only a single net in terminals without CMN and CCR) within a single Link 16 time slot, allowing a user to “hear” messages from up to three additional sources at once.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Sweden can provide substantially the same degree of protection for the sensitive technology being released as the U.S. Government. This sale is necessary in furtherance of the U.S. foreign policy and national security objectives outlined in the Policy Justification.

5. All defense articles and services listed in this transmittal have been authorized for release and export to the Government of Sweden.

[FR Doc. 2025-20507 Filed 11-20-25; 8:45 am]

BILLING CODE 6001-FR-P